DEPARTMENT OF COMMERCE

National Oceanic and Atmospheric Administration

Evaluation of Elkhorn Slough National Estuarine Research Reserve; Public Meeting

AGENCY: Office for Coastal Management (OCM), National Ocean Service (NOS), National Oceanic and Atmospheric Administration (NOAA), Department of Commerce (DOC).

ACTION: Notice of public meeting: notice of public comment period.

SUMMARY: The National Oceanic and Atmospheric Administration (NOAA), Office for Coastal Management will hold a public meeting to solicit comments for the performance evaluation of the Elkhorn Slough National Estuarine Research Reserve. NOAA will also accept written comments.

DATES: Elkhorn Slough National Estuarine Research Reserve Evaluation: The public meeting will be held on Wednesday July 17, 2019, and written comments must be received on or before Friday, July 26, 2019.

For the specific date, time, and location of the public meetings, see SUPPLEMENTARY INFORMATION.

ADDRESSES: You may submit comments on the reserve by any of the following methods:

Public Meeting and Oral Comments: A public meeting will be held in Castroville, California for the Elkhorn Slough Reserve. For the specific location, see SUPPLEMENTARY INFORMATION.

Written Comments: Please direct written comments to Jean Tanimoto, Evaluator, NOAA Office for Coastal Management, 1845 Wasp Blvd., Bldg. 176, Honolulu, HI 96818, or via email to Jean.Tanimoto@noaa.gov.

FOR FURTHER INFORMATION CONTACT: Jean Tanimoto, Evaluator, NOAA Office for Coastal Management, 1845 Wasp Blvd., Bldg. 176, Honolulu, HI 96818, by phone at (808) 725-5253, or via email to Jean.Tanimoto@noaa.gov. Copies of the previous evaluation findings, Management Plan, and Site Profile may be viewed and downloaded on the internet at http://coast.noaa.gov/czm/evaluations. A copy of the evaluation notification letter and most recent performance report may be obtained upon request by contacting the person identified under FOR FURTHER INFORMATION CONTACT.

SUPPLEMENTARY INFORMATION: Sections 312 and 315 of the Coastal Zone Management Act (CZMA) 116 U.S.C. 1458, 1461, AND 15 CFR 921.40, require NOAA to conduct ongoing evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to and implemented the terms of financial assistance under the Coastal Zone Management Act. When the evaluation is completed, NOAA's Office for Coastal Management will place a notice in the Federal Register announcing the availability of the Final Evaluation Findings.

You may participate and submit oral comments at the public meeting scheduled as follows:

Date: Wednesday, July 17, 2019.

Time: 6:00 p.m., local time.

Location: Castroville Branch Library, 11160 Speegle Street, Castroville, CA 95012.

Written comments must be received on or before Friday, July 26, 2019.

Authority: 16 U.S.C. § 1458, 15 CFR 921.40, 15 CFR 923.134.

(Federal Domestic Assistance Catalog 11.419 Coastal Zone Management Program Administration)

Dated: May 16, 2019.
Keelin Kuipers,
Deputy Director, Office for Coastal Management, National Ocean Service, National Oceanic and Atmospheric Administration.

[FR Doc. 2019-10855 Filed 5-23-19; 8:45 am]

BILLING CODE 3510-08-P